INTERNATIONAL TRADE COMMISSION

[Investigation No. 337-TA-1280]

Certain Laptops, Desktops, Servers, Mobile Phones, Tablets, and Components Thereof; Notice of Commission Determination Not To Review an Initial Determination Terminating the Investigation Based on Settlement; Termination of the Investigation

AGENCY: U.S. International Trade Commission.

ACTION: Notice.

SUMMARY: Notice is hereby given that the U.S. International Trade Commission (“Commission”) has determined not to review an initial determination (“ID”) (Order No. 40) of the presiding administrative law judge (“ALJ”) granting a joint motion to terminate the investigation in its entirety based on settlement. The investigation is terminated.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On September 7, 2021, the Commission instituted this investigation based on a complaint, as amended, filed on behalf of Sonrai Memory Ltd. of Carrickmines, Ireland (“Sonrai”). 86 FR 50170-71 (Sept. 7, 2021). The complaint alleged violations of section 337 of the Tariff Act of 1930, as amended, 19 U.S.C. 1337, based upon the importation into the United States, the sale for importation, and the sale within the United States after importation of certain laptops, desktops, servers, mobile phones, tablets, and components thereof that infringe certain claims of U.S. Patent Nos. 7,159,766; 7,325,733; and 8,193,792 (“the '792 patent”). Id. at 50170. The complaint also alleged that a domestic industry exists or is in the process of being established. Id. The Commission's notice of investigation named ten respondents: Amazon.com Inc. of Seattle, Washington; Dell Technologies Inc. of Round Rock, Texas; EMC Corporation of Round Rock, Texas; Lenovo Group Ltd. of Beijing, China; Lenovo (United States) Inc. of Morrisville, North Carolina; Motorola Mobility LLC of Chicago, Illinois; LG Electronics Inc. of Seoul, South Korea; LG Electronics USA, Inc. of Englewood Cliffs, New Jersey; Samsung Electronics Co., Ltd. of Gyeonggido, South Korea; and Samsung Electronics America, Inc. of Ridgefield Park, New Jersey (collectively, “Respondents”). Id. at 50171. The Office of Unfair Import Investigations (“OUII”) is participating in this investigation. Id.

On August 22, 2022, Sonrai and Respondents filed a joint motion to terminate the investigation in its entirety based on settlement. On September 1, 2022, OUII filed a response stating that the motion papers are overly redacted. On September 7, 2022, the ALJ ordered the parties to reduce the level of redaction in their motion papers. Order No. 39 (Sept. 7, 2022). The parties then provided new versions of the motion papers.

On September 19, 2022, the ALJ issued the subject ID granting the motion to terminate the investigation based on settlement pursuant to Commission Rule 210.21(b) (19 CFR 210.21(b)). The ID finds that the requirements of Rule 210.10(b) are satisfied and that no extraordinary circumstances prevent termination of the investigation. No party petitioned for review of the subject ID.

The Commission has determined not to review the subject ID. The investigation is hereby terminated in its entirety.

The Commission vote for this determination took place on October 5, 2022.

The authority for the Commission's determination is contained in section 337 of the Tariff Act of 1930, as amended (19 U.S.C. 1337), and in part 210 of the Commission's Rules of Practice and Procedure (19 CFR part 210).

By order of the Commission.
Issued: October 5, 2022.
William Bishop,
Supervisory Hearings and Information Officer.

[FR Doc. 2022-22101 Filed 10-11-22; 8:45 am]

BILLING CODE 7020-02-P